DEPARTMENT OF ENERGY

Office of Fossil Energy

[FE Docket No. 01-15-NG]

Energia Azteca X, S, de R.L. de C.V. Order Granting Long-Term Authorization To Export Natural Gas to Mexico

AGENCY: Office of Fossil Energy, DOE.

ACTION: Notice of order.

SUMMARY: The Office of Fossil Energy (FE) of the Department of Energy (DOE) gives notice that on May 7, 2001, it issued DOE/FE Order No. 1678 granting Energia Azteca X, S. de R.L. de C.V. (EAX) authority to export up to 135,000 million cubic feet (Mcf) of natural gas per day to northern Baja California, Mexico. The gas will be purchased from Coral Energy Resources, L.P. and transported by El Paso Natural Gas Pipeline and North Baja Pipeline to a U.S./Mexico border crossing near Yuma, Arizona. EAX will use it for fuel to generate electricity at a new 750-megawatt power plant EAX is building near Mexicali, Mexico. The plant is scheduled to begin commercial operation on April 1, 2003, and the exports will continue 15 years beyond that date through March 31, 2018. To the extent needed, additional amounts of gas may be exported on an interruptible basis during the plant's test period which is expected to start July 1, 2002.

This Order may be found on the FE web site at http://www.fe.doe.gov, or on our electronic bulletin board at (202) 586-7853. It is also available for inspection and copying in the Office of Natural Gas & Petroleum Import & Export Activities Docket Room, 3E-033, Forrestal Building, 1000 Independence Avenue, S.W., Washington, D.C. 20585-0334, (202) 586-9478. The Docket Room is open between the hours of 8:00 a.m. and 4:30 p.m., Monday through Friday, except Federal holidays.

Issued in Washington, D.C., May 9, 2001.
Clifford P. Tomaszewski,
Manager, Natural Gas Regulation, Office of Natural Gas & Petroleum, Import & Export Activities, Office of Fossil Energy.

[FR Doc. 01-13014 Filed 5-22-01; 8:45 am]

BILLING CODE 6450-01-P